DEPARTMENT OF STATE

[Public Notice 3657]

Bureau of Political-Military Affairs; Denial Policy of Munitions Export Licenses to Afghanistan

AGENCY: Department of State.

ACTION: Notice.

SUMMARY: Notice is hereby given that all licenses and other approvals to export or otherwise transfer defense articles or defense services to the territory of Afghanistan under Taliban control will continue to be denied pursuant to section 38 of the Arms Export Control Act (AECA) and in accordance with section 5 of the UN Participation Act (UNPA) and E.O. 12918 and the long standing policy of the United States to deny exports of all defense articles and defense services to Afghanistan.

EFFECTIVE DATE: May 8, 2001.

FOR FURTHER INFORMATION CONTACT: Mary Sweeney, Munitions Control Analyst, Office of Defense Trade Controls, Bureau of Political-Military Affairs, Department of State (202) 633-2700.

SUPPLEMENTARY INFORMATION: The U.S. has had a policy of denial in place for licenses and other approvals for exports/transfers of defense articles and services to Afghanistan, which is listed in Section 126.1 (see 61 FR 33313). However, a new U.N. Security Council Resolution (UNSCR) mandates an arms embargo against the territory of Afghanistan under Taliban control. This notice hereby informs the public of the U.S. implementation of these prohibitions through this notice, including the continuation of the policy of denial for this territory.

Areas of Afghanistan under control of the Taliban are being used for sheltering and training of terrorists and planning terrorist acts. Also, the Taliban provides a safehaven for Usama bin Laden. Because of these activities, the United Nations Security Council adopted Resolution 1333 (December 19, 2000). This resolution requires that all States prevent the direct or indirect supply, sale and transfer to the territory of Afghanistan under Taliban control, by their nationals or from their territories, or using flag vessels or aircraft, of arms and related material of all types, including weapons and ammunition, military vehicles and equipment, paramilitary equipment and spare parts of the aforementioned. Also, the resolution requires States to prevent the direct or indirect sale, supply and transfer to the territory of Afghanistan under Taliban control by their nationals or from their territories of technical advice, assistance, or training related to the military activities of the armed personnel under control of the Taliban. The UN arms embargo has limited exceptions for non-lethal military equipment intended solely for humanitarian or protective use if approved in advance by an established Committee of the Security Council.

In accordance with 22 CFR 126.1, the U.S. Government will continue its policy to deny all applications for licenses and other approvals to export or otherwise transfer defense articles and services to Afghanistan, including the territory of Afghanistan under Taliban control. This action also continues to preclude the use in connection with this territory of any exemptions from licensing or other approval (e.g. brokering) requirements available under the International Traffic in Arms Regulations.

Under the terms of UNSCR 1333, the U.N. arms embargo of the territory of Afghanistan under Taliban control will expire on December 19, 2001 unless it is extended by the U.S. Security Council. However, the measures specified in this notice and the policy of denial for Afghanistan will remain in effect until a subsequent notice is published in the Federal Register.

This action has been taken pursuant to Section 38 of the AECA (22 U.S.C. 2778) and § 126.7 of the International Traffic in Arms Regulations in furtherance of the foreign policy of the United States, and in accordance with Section 5 of the UNPA (22 U.S.C. 287(c)) and E.O. 12918.

Dated: April 30, 2001.
Gregory M. Suchan,
Acting Assistant Secretary, Bureau of Political-Military Affairs, Department of State.

[FR Doc. 01-11533 Filed 5-7-01; 8:45 am]

BILLING CODE 4710-25-P